DEPARTMENT OF TRANSPORTATION

Federal Aviation Administration

Office of Commercial Space Transportation; Adoption and Notice of Availability of the Finding of No Significant Impact (FONSI) for Boost-back and Landing of the Falcon 9 Full Thrust First Stage at SLC-4 West at Vandenberg Air Force Base, California and Offshore Landing Contingency Option

AGENCY: Federal Aviation Administration (FAA), Department of Transportation (DOT).

ACTION: Notice of availability of the FONSI.

SUMMARY: In accordance with the National Environmental Policy Act of 1969, as amended (NEPA; 42 United States Code 4321 et seq.), Council on Environmental Quality (CEQ) NEPA implementing regulations (40 Code of Federal Regulations [CFR] parts 1500 to 1508), and FAA Order 1050.1F, Environmental Impacts: Policies and Procedures, the FAA is announcing the adoption of, and availability of a FONSI for, the U.S. Air Force's (USAF's) Environmental Assessment, Boost-Back and Landing of the Falcon 9 Full Thrust First Stage at SLC-4 West, Vandenberg Air Force Base, California and Offshore Landing Contingency Option (EA).

FOR FURTHER INFORMATION CONTACT: Mr. Daniel Czelusniak, Environmental Specialist, Federal Aviation Administration, 800 Independence Ave. SW., Room 325, Washington, DC 20591; email Daniel.Czelusniak@faa.gov; or phone (202) 267-5924.

SUPPLEMENTARY INFORMATION: The USAF acted as the lead agency, and the FAA was a cooperating agency, in the preparation of the EA. The EA analyzed the potential environmental impacts of Space Exploration Technologies Corp. (SpaceX) constructing a landing pad and improving infrastructure at Space Launch Complex 4 West (SLC-4W) at Vandenberg Air Force Base (VAFB), as well as conducting boost-backs and landings of the Falcon 9 first stage booster at SLC-4W or on a special-purpose barge, no less than 31 miles offshore in the Pacific Ocean. The EA was prepared in accordance with NEPA, CEQ NEPA implementing regulations, the USAF's Environmental Impact Analysis Process (32 CFR 989), and FAA Order 1050.1F, Environmental Impacts: Policies and Procedures.

As the activities considered in the EA would require Federal actions (as defined in 40 CFR 1508.18) involving the USAF and FAA, the EA was prepared to satisfy the NEPA obligations of both agencies. The FAA's Federal action in this matter pertains to its role in issuing licenses for the operation of commercial launch and reentry vehicles at launch sites. The USAF issued a FONSI on April 26, 2016, which stated that implementing the Proposed Action would not have a significant effect on the human environment. Based upon its independent review and consideration of the EA, the FAA formally adopts the EA—concurring with the EA's analysis of impacts and findings—and issues a FONSI to support the issuance of launch licenses to SpaceX for Falcon 9 boost-back and landing operations at VAFB or in the Pacific Ocean. If, in their license application to the FAA, SpaceX makes changes to their operations which fall outside the scope of the EA, additional environmental review would be required prior to the FAA issuing a license associated with such an application.

After reviewing and analyzing available data and information on existing conditions and potential impacts, the FAA has determined that issuing launch licenses to SpaceX for Falcon 9 boost-back and landing operations at VAFB or in the Pacific Ocean is a Federal action that would not significantly affect the quality of the human environment within the meaning of NEPA. The FAA made this determination in accordance with all applicable environmental laws and FAA regulations.

The FAA has posted the FONSI on the internet at http://www.faa.gov/about/office_org/headquarters_offices/ast/environmental/nepa_docs/review/launch/.

Issued in Washington, DC on: November 2, 2016.
Daniel Murray,
Manager, Space Transportation Development Division.

[FR Doc. 2016-27092 Filed 11-8-16; 8:45 am]

BILLING CODE 4310-13-P